DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail: paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: The National Health Service Corps (NHSC) Scholarship Program Application (OMB No. 0915-0146)—Revision

The National Health Service Corps (NHSC) Scholarship Program provides the NHSC with the health professionals it requires to carry out its mission of providing primary health care to populations residing in areas of greatest need. Under this program, health professions students are awarded scholarships in return for service in a federally designated Health Professional Shortage Area (HPSA). Students are supported who are well qualified to participate in the NHSC Scholarship Program and who want to assist the NHSC in its mission, both during and after their period of obligated service. The NHSC Scholarship Program forms are used to collect relevant information necessary to make determinations of award. Scholars are selected for these competitive awards based on the information provided in the application, forms, and supporting documentation. Awards are made to applicants who demonstrate a high potential for providing quality primary health care services in HPSAs.

The program forms include the following: The NHSC Scholarship Program Application, Letter of Recommendation, the Authorization to Release Information, the Verification of Acceptance/Good Standing Report, the Receipt of Exceptional Financial Need Scholarship, and the Verification Regarding Disadvantaged Background.

The annual estimate of burden is as follows:

Instrument | Number of respondents | Responses/ respondent | Total responses | Hours per response | Total burden hours
NHSC Scholarship Program Application | 1800 | 1 | 1800 | 2.0 | 3600
Letter of Recommendation | 1800 | 2 | 3600 | .50 | 1800
Authorization to Release Information | 1800 | 1 | 1800 | .10 | 180
Verification of Acceptance/Good Standing Report | 1800 | 1 | 1800 | .25 | 450
Receipt of Exceptional Financial Need Scholarship | 100 | 1 | 100 | .25 | 25
Verification Regarding Disadvantaged Background | 300 | 1 | 300 | .25 | 75
Total |  |  | 9400 |  | 6130

E-mail comments to paperwork@hrsa.gov or mail the HRSA Reports Clearance Officer, Room 10-33, Parklawn Building, 5600 Fishers Lane, Rockville, MD 20857. Written comments should be received within 60 days of this notice.

Dated: October 14, 2010.
Robert Hendricks,
Director, Division of Policy and Information Coordination.

[FR Doc. 2010-26329 Filed 10-19-10; 8:45 am]

BILLING CODE 4165-15-P